SECURITIES AND EXCHANGE COMMISSION

Sunshine Act Meetings

Notice is hereby given, pursuant to the provisions of the Government in the Sunshine Act, Pub. L. 94-409, that the Securities and Exchange Commission will hold the following meetings during the week of February 2, 2004: An Open Meeting will be held on Wednesday, February 4, 2004 at 10 a.m. A Closed Meeting will be held on Thursday, February 5, 2004 at 10 a.m.

Commissioners, Counsel to the Commissioners, the Secretary to the Commission, and recording secretaries will attend the Closed Meeting. Certain staff members who have an interest in the matters may also be present.

The General Counsel of the Commission, or his designee, has certified that, in his opinion, one or more of the exemptions set forth in 5 U.S.C. 552b(c) (3), (5), (7), (9B), and (10) and 17 CFR 200.402(a) (3), (5), (7), (9ii), and (10), permit consideration of the scheduled matters at the Closed Meeting.

Commissioner Glassman, as duty officer, voted to consider the items listed for the closed meeting in a closed session.

The subject matter of the Open Meeting scheduled for Wednesday, February 4, 2004 will be:

1. The Commission will hear oral argument on an appeal by Orlando Joseph Jett (“Jett”) and the Division of Enforcement (the “Division”) from an initial decision of an administrative law judge. Jett formerly was a government bond trader with former registered broker-dealer Kidder Peabody (“Kidder”). The Division alleges that Jett committed fraud in connection with a trading scheme involving U.S. Treasury zero coupon bonds by which he booked hundreds of millions of dollars of illusory profits for Kidder and earned millions of dollars in bonuses.

The law judge dismissed the fraud charges because, although she found Jett's conduct fraudulent, she concluded that the fraud was not committed “in connection with” the purchase or sale of securities. The law judge also found that Jett aided and abetted Kidder's recordkeeping violations caused by the inclusion of the illusory profits in its financial statements. The law judge barred Jett from association with any broker or dealer and ordered him to pay a civil money penalty of $200,000, to disgorge $8.21 million, plus prejudgment interest, and to cease and desist from committing or causing any violations or future violations of the applicable securities laws.

Jett appeals the law judge's findings of recordkeeping violations and contests the judge's findings that he engaged in a scheme to defraud. The Division appeals the law judge's decision with respect to the failure to find violations of the antifraud provisions.

Among the issues likely to be considered are:

1. Whether respondent committed the alleged violations; and

2. If so, whether sanctions should be imposed in the public interest.

For further information, please contact the Office of the Secretary at (202) 942-7070.

The subject matters of the Closed Meeting scheduled for Thursday, February 5, 2004 will be:

Formal orders of investigation;

Institution and settlement of administrative proceedings of an enforcement nature;

Institution and settlement of injunctive actions;

Litigation matter; and

Adjudicatory matter.

At times, changes in Commission priorities require alterations in the scheduling of meeting items. For further information and to ascertain what, if any, matters have been added, deleted or postponed, please contact:

The Office of the Secretary at (202) 942-7070.

Dated: January 28, 2004.
Jonathan G. Katz,
Secretary.

[FR Doc. 04-2139 Filed 1-29-04; 12:34 pm]

BILLING CODE 8010-01-P